NEIGHBORHOOD REINVESTMENT CORPORATION

Regular Board of Directors Meeting; Sunshine Act

TIME AND DATE: 12 p.m., Wednesday, December 2 2009.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call To Order.

II. Approval of the Minutes.

III. Summary Report of the Audit Committee.

IV. Summary Report of the Finance, Budget and Program Committee.

V. Summary Report of the Audit Committee.

VI. Action Item.

VII. Financial Report.

VIII. Corporate Scorecard.

IX. Chief Executive Officer's Quarterly Management Report.

X. Adjournment.

Erica Hall,
Assistant Corporate Secretary.

[FR Doc. E9-28490 Filed 11-30-09; 8:45 am]

BILLING CODE 7570-02-M